DEPARTMENT OF THE TREASURY

Submission for OMB Review; Comment Request

March 23, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before May 1, 2006 to be assured of consideration.

Alcohol and Tobacco Tax and Trade Bureau (TTB)

OMB Number: 1513-0087.

Type of Review: Extension.

Title: Labeling and Advertising Requirements under the Federal Alcohol Administration Act.

Form: TTB Reporting Requirement 5100/1.

Description: Bottlers and importers of alcohol beverages must adhere to numerous performance standards for statements made on labels and in advertisements of alcohol beverages. These performance standards include minimum mandatory labeling and advertising statements.

Respondents: Business or other for-profit.

Estimated Total Burden Hours: 6,060 hours.

OMB Number: 1513-0114.

Type of Review: Extension.

Title: Beer for Exportation.

Form: TTB F 5130.12.

Description: Unpaid beer may be removed from a brewery for exportation without payment of the excise tax normally due on removal. In order to ensure that exportation took place as claimed and that untaxpaid beer does not reach domestic market TTB requires certification on Form 5130.12.

Respondents: Business or other for-profit.

Estimated Total Burden Hours: 5,940 hours.

OMB Number: 1513-0115.

Type of Review: Extension.

Title: Usual and Customary Business Records Relating to Wine.

Form: TTB REC 5120/1.

Description: TTB routinely inspects wineries' usual and customary business records to insure the proper payment of wine excise taxes due to the Federal government.

Respondents: Business or other for-profit.

Estimated Total Burden Hours: 468 hours.

OMB Number: 1513-0116.

Type of Review: Extension.

Title: Bond for Drawback under 26 U.S.C. 5131.

Form: TTB F 5154.3.

Description: Business that use tax-paid alcohol to manufacture non-beverage products may file a claim for drawback (refund or remittance). Claims may be filed monthly or quarterly. Monthly claimants must file a bond on TTB F 5154.3 to protect the Government's interest.

Respondents: Business or other for-profit.

Estimated Total Burden Hours: 10 hours.

Clearance Officer: Frank Foote (202) 927-9347, Alcohol and Tobacco Tax and Trade Bureau, Room 200 East, 1310 G Street, NW., Washington, DC 20005.

OMB Reviewer: Alexander T. Hunt (202) 395-7316, Office of Management and Budget, Room 10235, New Executive Office Building, Washington, DC 20503.

Michael A. Robinson,
Treasury PRA, Clearance Officer.

[FR Doc. E6-4629 Filed 3-29-06; 8:45 am]

BILLING CODE 4810-31-P